SOCIAL SECURITY ADMINISTRATION

[Docket No. SSA-2019-0043]

Privacy Act of 1974; System of Records

AGENCY: Office of Privacy and Disclosure, Office of the General Counsel, Social Security Administration (SSA).

ACTION: Notice of a modified system of records.

SUMMARY: In accordance with the Privacy Act, we are issuing public notice of our intent to modify an existing system of records entitled, Parking Management Record System, 60-0230, last published in full January 11, 2006. This notice publishes details of the modified system as set forth under the caption, SUPPLEMENTARY INFORMATION.

DATES: The system of records notice (SORN) is applicable upon its publication in today's Federal Register, with the exception of the new routine uses, which are effective May 29, 2020. We invite public comment on the routine uses or other aspects of this SORN. In accordance with 5 U.S.C. 552a(e)(4) and (e)(11), the public is given a 30-day period in which to submit comments. Therefore, please submit any comments by May 29, 2020.

ADDRESSES: The public, Office of Management and Budget (OMB), and Congress may comment on this publication by writing to the Executive Director, Office of Privacy and Disclosure, Office of the General Counsel, Social Security Administration, Room G-401 West High Rise, 6401 Security Boulevard, Baltimore, Maryland 21235-6401, or through the Federal e-Rulemaking Portal at http://www.regulations.gov, please reference docket number SSA-2019-0043. All comments we receive will be available for public inspection at the above address and we will post them to http://www.regulations.gov.

FOR FURTHER INFORMATION CONTACT: Elizabeth Boorstein, Government Information Specialist, Privacy Implementation Division, Office of Privacy and Disclosure, Office of the General Counsel, SSA, Room G-401 West High Rise, 6401 Security Boulevard, Baltimore, Maryland 21235-6401, telephone: (410) 966-5855, email: Elizabeth.Boorstein@ssa.gov.

SUPPLEMENTARY INFORMATION: We are modifying the existing system of record notice to reflect changes to the process for applying for parking on SSA properties; the categories and types of records captured within this system; and for the storage and retrieval of parking policy violations.

We are also modifying the notice throughout to correct miscellaneous stylistic formatting and typographical errors of the previously published notice, and to ensure the language reads consistently across multiple systems. We are republishing the entire notice for ease of reference.

In accordance with 5 U.S.C. 552a(r), we provided a report to OMB and Congress on this modified system of records.

Matthew Ramsey,
Executive Director, Office of Privacy and Disclosure, Office of the General Counsel.

SYSTEM NAME AND NUMBER:

Social Security Administration (SSA), Parking Management Record System, 60-0230

SECURITY CLASSIFICATION:

Unclassified.

SYSTEM LOCATION:

Social Security Administration, Office of Security and Emergency Preparedness, Parking and Credentialing Office, 1501 Robert M. Ball Building, 6401 Security Boulevard, Baltimore, Maryland 21235-6401.

Information is also located in additional locations in connection with cloud-based services and kept at an additional location as backup for business continuity purposes.

SYSTEM MANAGER(S):

Director, Office of Security Administration and Project Management, Social Security Administration, 1501 Robert M. Ball Building, 6401 Security Boulevard, Baltimore, Maryland 21235-6401, (410) 966-5855.

AUTHORITY FOR MAINTENANCE OF THE SYSTEM:

Federal Property and Administrative Services Act of 1949, as amended, (see 40 U.S.C. 101, 121, and 41 CFR 102-74.265-310 and 41 CFR 102-74.430)

PURPOSE(S) OF THE SYSTEM:

The purpose of the SSA Parking Management System is to facilitate and enforce SSA parking policies. The SSA Parking Management System will capture vehicle and owner information on SSA employees, contractors, interns, and visitors to SSA facilities who apply for a parking permit, who have assignment of space for parking, and who park on SSA-controlled property and on property assigned to SSA by the General Services Administration or any other agency. This system will also capture information about those who violate SSA Parking Policy, including parking violation citations.

CATEGORIES OF INDIVIDUALS COVERED BY THE SYSTEM:

All Headquarters SSA employees as well as any visitors, carpool members, contractors, vendors or building tenants utilizing SSA Headquarters parking facilities.

CATEGORIES OF RECORDS IN THE SYSTEM:

This system includes all documentation in support of parking applications or assignment of parking, such as vehicle owner name, Social Security number (SSN), vehicle registration number (license plate), state of vehicle registration, vehicle make, model, color. For those that received a parking citation by violating SSA Parking Policy, this also includes vehicle owner home address.

RECORD SOURCE CATEGORIES:

Records are developed from the individual during the parking assignment application process or at the issuance of parking citations due to parking infractions.

ROUTINE USES OF RECORDS MAINTAINED IN THE SYSTEM, INCLUDING CATEGORIES OF USERS AND THE PURPOSES OF SUCH USES:

Disclosure may be made for routine use as indicated below:

1. To a congressional office in response to an inquiry from that office made on behalf of, and at the request of, the subject of the record or a third party acting on the subject's behalf.

2. To the Department of Justice (DOJ), a court or other tribunal, or another party before such tribunal, when:

a. SSA, or any component thereof; or

b. any SSA employee in his/her official capacity; or

c. any SSA employee in his/her individual capacity where DOJ (or SSA where it is authorized to do so) has agreed to represent the employee; or

d. the United States or any agency thereof where SSA determines that there is litigation likely to affect the operations of SSA or any of its components, is a party to the litigation or has an interest in such litigation, and SSA determines that the use of such records by DOJ, a court or other tribunal, or another party before tribunal, is relevant and necessary to the litigation, provided, however, that in each case, SSA determines that such disclosure is compatible with the purpose(s) for which the records were collected.

3. To student volunteers, individuals working under a personal services contract, and other workers who technically do not have the status of Federal employees, when they are performing work for SSA, as authorized by law, and they need access to personally identifiable information (PII) in SSA records in order to perform their assigned agency functions.

4. To the National Archives Records Administration under 44 U.S.C. 2904 and 2906.

5. To appropriate agencies, entities, and persons when: (a) SSA suspects or has confirmed that there has been a breach of this system of records; (b) SSA has determined that as a result of the suspected or confirmed breach there is a risk of harm to individuals, SSA (including its information systems, programs, and operations), the Federal Government, or national security; and (c) the disclosure made to such agencies, entities, and persons is reasonably necessary to assist in connection with SSA's efforts to respond to the suspected or confirmed breach or to prevent, minimize, or remedy such harm.

6. To another Federal agency or Federal entity, when SSA determines that information from this system of records is reasonably necessary to assist the recipient agency or entity in: (a) Responding to a suspected or confirmed breach; or (b) preventing, minimizing, or remedying the risk of harm to individuals, the recipient agency or entity (including its information systems, programs, and operations), the Federal Government, or national security resulting from a suspected or confirmed breach.

7. To Federal, State, and local law enforcement agencies and private security contractors, as appropriate, information necessary: (a) To enable them to protect the safety of SSA employees and customers, the security of the SSA workplace and the operation of SSA facilities; or (b) to assist investigations or prosecutions with respect to activities that affect such safety and security, or activities that disrupt the operation of SSA facilities.

8. To the Office of Personnel Management, the Merit Systems Protection Board, or the Office of the Special Counsel when information is requested in connection with appeals, special studies of the civil service and other merit systems, review of those agencies' rules and regulations, investigation of alleged or possible prohibited personnel practices, and for such other function of these agencies as may be authorized by law, e.g., 5 U.S.C. 1205 and 1206.

9. To the Equal Employment Opportunity Commission when requested in connection with investigations into alleged or possible discriminatory practices in the Federal sector, examination of Federal affirmative employment programs, compliance by Federal agencies with the Uniform Guidelines on Employee Selection Procedures, or other functions vested in the Commission.

10. To the Federal Labor Relations Authority, its General Counsel, the Federal Mediation and Conciliation Service, the Federal Service Impasses Panel, or an arbitrator when information is requested in connection with investigations of allegations of unfair practices, matters before an arbitrator or the Federal Service Impasses Panel.

11. To officials of labor organizations recognized under 5 U.S.C. Chapter 71 when relevant and necessary to their duties of exclusive representation concerning personnel policies, practices, and matters affecting conditions of employment.

POLICIES AND PRACTICES FOR STORAGE OF RECORDS:

Initial parking applications (form SSA-391) are maintained in paper form; these forms are used by employees and contractors who have yet to access SSA systems and are completed prior to their official duty start date. Parking citation records are maintained in an electronic format using the parking citation system.

POLICIES AND PRACTICES FOR RETRIEVAL OF RECORDS:

Records are retrieved by vehicle owner name, vehicle registration number (license plate), state of vehicle registration, vehicle make, model, or color.

POLICIES AND PRACTICES FOR RETENTION AND DISPOSAL OF RECORDS:

Superseded materials are maintained by the SSA Office of Security Administration and Project Management for historical purposes and the control purpose has been met and the records are then destroyed per General Records Schedule 01-1 (001): The record retention is temporary—destroy when 3 years old, but longer retention is authorized if needed for business use. Superseded materials are maintained by the SSA Protective Security Officer for historical purposes and the control purpose has been met and the records are then destroyed.

ADMINISTRATIVE, TECHNICAL, AND PHYSICAL SAFEGUARDS:

We retain electronic and paper files with personal identifiers in secure storage areas accessible only by our authorized employees and contractors who have a need for the information when performing their official duties. Security measures include the use of codes and profiles, personal identification number and password, and personal identification verification cards. Further, management grants specific personnel access authority to the parking citation system; parking enforcement officers are the only personnel allowed to electronically upload parking citations. We keep paper records in locked cabinets within secure areas, with access limited to only those employees who have an official need for access in order to perform their duties. We annually provide our employees and contractors with appropriate security awareness training that includes reminders about the need to protect PII and the criminal penalties that apply to unauthorized access to, or disclosure of, PII (e.g., 5 U.S.C. 552a(i)(1)). Furthermore, employees and contractors with access to databases maintaining PII must sign a sanctions document annually, acknowledging their accountability for inappropriately accessing or disclosing such information.

RECORD ACCESS PROCEDURES:

Individuals requesting notification of, or access to, a record by mail must include a notarized statement to us to verify their identity or must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense. These procedures are in accordance with our regulations at 20 CFR 401.40 and 401.45.

CONTESTING RECORD PROCEDURES:

Same as Notification procedures. Also, requesters should reasonably identify the record, specify the information they are contesting and the corrective action sought, and the reasons for the correction, with supporting justification showing how the record is incomplete, untimely, inaccurate or irrelevant. These procedures are in accordance with SSA regulations (20 CFR 401.65(a)).

NOTIFICATION PROCEDURES:

An individual can determine if this system contains a record about him/her by writing to the system manager(s) at the above address and providing his/her name, SSN or other information that may be in the system of records that will identify him/her. An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels information in the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth, along with one other piece of information, such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA regulations (20 CFR 401.40).

EXEMPTIONS PROMULGATED FOR THE SYSTEM:

None.

HISTORY:

17 FR 1846, Social Security Administration Parking Management Record System.

72 FR 69723, Social Security Administration Parking Management Record System.

83 FR 54969, Social Security Administration Parking Management Record System.

[FR Doc. 2020-09074 Filed 4-28-20; 8:45 am]

BILLING CODE 4191-02-P